ENVIRONMENTAL PROTECTION AGENCY

[FRL-7228-5]

Demonstration Program To Recognize Local Governments Taking Extraordinary Efforts To Protect Watersheds—Clean Water Partners for the 21st Century—Extension of Application Deadline

AGENCY: Environmental Protection Agency.

ACTION: Extension of application deadline until July 15, 2002.

SUMMARY: On April 8, 2002 at 67 FR 16751 EPA published a Federal Register notice announcing the creation of this program and requesting applications to be submitted by May 30, 2002. This notice announced the intention by the Office of Water at the Environmental Protection Agency (EPA) to undertake a demonstration program to recognize local governments of various types that are undertaking extraordinary actions now to protect and enhance watershed health and also commit to undertake specific actions in the future, over and above the requirements of the Clean Water Act (CWA). The program is intended to give local governments of all types the opportunity to be recognized, and is not limited to wastewater treatment agencies. The program is not intended to replace EPA's existing National Wastewater Excellence awards program, which will continue to recognize operational achievements in specific areas of wastewater management. A fuller description of the program and guidelines for submitting applications can be found at www.cleanwaterpartners.org.

DATES: The date by which applications for this program are to be submitted is being extended from May 30, 2002 until July 15, 2002. None of the other elements of the program are affected by this Notice.

ADDRESSES: Applications are to be sent electronically to www.cleanwaterpartners.org or faxed to Clean Water Partners for the 21st Century Program at 202-833-4657.

FOR FURTHER INFORMATION CONTACT: Jim Horne, Office of Wastewater Management, Phone (202) 564-0571, E-mail: horne.james@epa.gov

Dated: May, 30, 2002.
James A. Hanlon,
Director, Office of Wastewater Management.

[FR Doc. 02-14633 Filed 6-10-02; 8:45 am]

BILLING CODE 6560-50-P